DEPARTMENT OF THE INTERIOR

Bureau of Ocean Energy Management

[MMAA104000]

Outer Continental Shelf (OCS) Geological and Geophysical Exploration Activities in the Gulf of Mexico

AGENCY: Bureau of Ocean Energy Management (BOEM), Interior.

ACTION: Notice of Intent; Notice of Scoping Meetings; and Request for Scoping Comments.

SUMMARY: Pursuant to the regulations implementing (National Environmental Policy Act) (NEPA), and subject to available funding, BOEM is announcing the intent to prepare a Programmatic Environmental Impact Statement (PEIS) to evaluate potential environmental effects of multiple geological and geophysical (G&G) activities in OCS waters of the Gulf of Mexico (GOM), extending from the coastline to the seaward boundary of the Exclusive Economic Zone (EEZ), including the GOM OCS. The PEIS will be prepared cooperatively with NMFS to serve as the requisite environmental analysis under NEPA for the National Marine Fisheries Service's (NMFS) Marine Mammal Protection Act (MMPA) rulemaking governing authorization for unintentional marine mammal takes during G&G activities in GOM waters. It will also provide information for future decisions regarding Outer Continental Shelf Lands Act (OCSLA) permit and MMPA authorization actions, in addition to informing consultations under the Endangered Species Act (ESA), Magnuson-Stevens Fishery Conservation and Management Act (MSFCMA), and other statutes. By this document, BOEM announces: The intention to prepare a PEIS; commencement of the scoping process under NEPA; a request for public comment on the scope of the PEIS; times, dates and locations for public scoping meetings; and a request for other Federal Agencies, and State, Tribal, and local governments to consider becoming cooperating agencies in the preparation of the PEIS.

DATES: Comments should be submitted no later than June 24, 2013. For specific meeting dates and more information on submitting comments, see ADDRESSES.

ADDRESSES: The following public scoping meetings are planned for the PEIS:

• Tampa, Florida: Monday, June 10, 2013, Embassy Suites Westshore Tampa Airport Hotel, 555 North Westshore Boulevard, Tampa, Florida 33609; one meeting beginning at 6:30 p.m. EDT;

• Fort Walton Beach, Florida: Tuesday, June 11, 2013, Ramada Plaza Beach Resort, 1500 Miracle Strip Parkway SE., Fort Walton Beach, Florida 32548; one meeting beginning at 6:30 p.m. CDT;

• Mobile, Alabama: Wednesday, June 12, 2013, Government Plaza, 205 Government Street, Mobile, Alabama 36644; one meeting beginning at 6:30 p.m. CDT;

• Gulfport, Mississippi: Thursday, June 13, 2013, Courtyard by Marriott Gulfport Beachfront MS Hotel, 1600 East Beach Boulevard, Gulfport, Mississippi 39501; one meeting beginning at 6:30 p.m. CDT;

• Galveston, Texas: Monday, June 17, 2013, Galveston Hilton, 5400 Seawall Boulevard, Galveston, Texas 77551; one meeting beginning at 6:30 p.m. CDT;

• New Orleans, Louisiana: Wednesday, June 19, 2013, Bureau of Ocean Energy Management, 1201 Elmwood Park Boulevard, New Orleans, Louisiana 70123; one meeting beginning at 1 p.m. CDT;

• Silver Spring, Maryland: Thursday, June 20, 2013, National Oceanic and Atmospheric Administration, 1305 East-West Highway, Silver Spring, Maryland 20910; one meeting beginning at 1:00 p.m. EDT.

Comments: Statements, both oral and written, will be received at the scoping meetings. All persons wishing to speak will have an opportunity to do so. Time limits may be set on speakers to allow time for all speakers to participate. In addition, background information will be provided by BOEM and NMFS on the Federal compliance processes related to this Proposed Action.

In lieu of participation in the scoping meetings listed above, Federal, State, and local government agencies and other interested parties, including members of the public, may submit written comments on the scope of the PEIS, significant issues that should be addressed, alternatives that should be considered, and the types of G&G activities and geographical areas of interest on Federal and State waters of the GOM. Comments will also be shared with NMFS.

Comments may be submitted in one of the following three ways:

1. In written form enclosed in an envelope labeled “Comments on Scoping for the Gulf of Mexico G&G PEIS” and mailed (or hand carried) to Mr. Gary D. Goeke, Chief, Regional Assessment Section, Office of Environment (MS 5410), Bureau of Ocean Energy Management, Gulf of Mexico OCS Region, 1201 Elmwood Park Boulevard, New Orleans, Louisiana 70123-2394; or

2. Electronically to the BOEM email address: gomggeis@boem.gov.

3. Through the regulations.gov web portal: Navigate to http://www.regulations.gov and search for “Geological and Geophysical Exploration Activities on Federal and State Waters of the Gulf of Mexico” (Note: It is important to include the quotation marks in your search terms.) Click on the “Comment Now!” button to the right of the document link. Enter your information and comment, then click “Submit”.

Public Disclosure of Names and Addresses: Before including your address, phone number, email address, or other personal identifying information in your comment, be advised that your entire comment, including your personal identifying information, may be made publicly available at any time. While you can ask us in your comment to withhold from public review your personal identifying information, we cannot guarantee that we will be able to do so.

For further information regarding the GOM G&G PEIS, please visit our Web site at: http://www.boem.gov/GOM-G-G-PEIS/

FOR FURTHER INFORMATION CONTACT: For information on this notice or the public scoping meetings, please contact Ms. Beth Nord, Bureau of Ocean Energy Management, Gulf of Mexico OCS Region, 1201 Elmwood Park Boulevard (GM 623E), New Orleans, Louisiana 70123-2394, telephone (504) 736-2995. For information on BOEM's policies associated with this notice, please contact Mr. Gary Goeke, Section Chief, Regional Assessment Section, Office of Environment (GM 623E), Bureau of Ocean Energy Management, Gulf of Mexico OCS Region, 1201 Elmwood Park Boulevard, New Orleans, Louisiana 70123-2394, telephone (504) 736-3233. For information on NMFS' policies associated with this notice, please contact Mr. Howard Goldstein, Office of Protected Resources, National Marine Fisheries Service, National Oceanic and Atmospheric Administration, 1315 East-West Highway, Silver Spring, Maryland 20910, telephone (301) 427-8401.

SUPPLEMENTARY INFORMATION: Scoping is the initial step in the NEPA process. BOEM will fully comply with all pertinent laws, rules, and regulations and will allow the public an adequate opportunity to participate in the NEPA process, including scoping meetings and public comment periods. The publication of this NOI initiates the scoping process and 45-day scoping comment period for this PEIS. The public scoping meetings will be held during this 45-day timeframe. The activities considered within this PEIS are associated with GOM OCS oil and gas exploration and development, siting for potential renewable energy projects, and marine minerals extraction; they could take place over a period of up to ten years. The purpose of the scoping meetings will be to provide stakeholders with more information on the Federal compliance processes related to the proposed actions, and solicit comments on the scope of the PEIS. Under the Proposed Action, BOEM proposes to issue permits to conduct G&G activities under OCSLA and NMFS proposes to promulgate regulations under the MMPA that establish a framework for issuing letters of authorization for the unintentional take of marine mammals incidental to G&G activities in GOM waters.

Through the scoping process, Federal, State and local government agencies and other interested parties have the opportunity to assist in determining the significant issues and alternatives for analysis in the PEIS, and developing the scope of the PEIS. This early planning and consultation step is important to ensure all interests and concerns are communicated to BOEM and NMFS as the PEIS is developed.

Background: A variety of G&G techniques are used to characterize the geological structure of the OCS slope and deepwater ocean environments. Geological and geophysical surveys are conducted to: (1) Obtain data for hydrocarbon exploration and production; (2) aid in siting renewable energy structures; (3) locate potential sand and gravel resources; (4) identify possible seafloor or shallow depth geologic hazards; and (5) locate potential archaeological resources and potential hard bottom habitats for avoidance. The selection of a specific G&G technique or suite of techniques is driven by data needs and the target of interest. The following types of G&G activities will be included in the PEIS: (1) Various types of deep penetration seismic airgun surveys used almost exclusively for oil and gas exploration and development; (2) other types of surveys and sampling activities used only in support of oil and gas exploration and development, including electromagnetic surveys, deep stratigraphic and shallow test drilling, and various remote sensing methods; (3) high-resolution geophysical (HRG) surveys used in three program areas (oil and gas, renewable energy, and marine minerals) to detect geohazards, archaeological resources, and certain types of benthic communities; and (4) geological and geotechnical bottom sampling used in all three program areas to assess the suitability of seafloor sediments for supporting structures (e.g., platforms, pipelines, cables, wind turbines) or to evaluate the quantity and quality of sand for beach nourishment projects.

The GOM OCS area that will be analyzed within the GOM G&G PEIS is illustrated in Figure 1 as the GOM Western, Central, and Eastern Planning Areas. This Area of Interest (AOI) includes State waters and extends from the coastline (excluding estuaries) through Federal waters of the OCS out to the seaward boundary of the EEZ.

The PEIS will evaluate the environmental impacts to resources in Federal and State waters of the GOM resulting from G&G activities taking place either exclusively in Federal waters or in both Federal and State waters (but not exclusively in State waters), subject to BOEM and NMFS regulatory authority that may be proposed over a period of up to ten years. While State waters are not within BOEM's jurisdiction, NMFS has jurisdiction and permitting authority in both Federal and State waters. The AOI encompasses adjacent State waters for three reasons: (1) NMFS requires an assessment of potential impacts to resources under its jurisdiction; (2) G&G activities under all three program areas (oil and gas, renewable energy, and marine minerals) could include survey areas that include Federal and State waters; and (3) the potential adverse effects associated with G&G activities introduced into the environment during OCS G&G surveys could affect resources in State waters. Surveys occurring exclusively in State waters are not considered in the scope of this PEIS.

The PEIS is intended to serve as the primary NEPA environmental analysis to support future OCSLA and MMPA permitting decisions. However, should BOEM or NMFS determine there is a need to develop a future site-specific analysis, e.g., an EIS or environmental assessment for a particular G&G activity, the PEIS would serve as a reference document to implement the “tiering” objective detailed in NEPA's implementing regulations (40 CFR 1502.20). The proposed G&G activities include, but are not limited to, deep-penetration and high resolution seismic surveys, electromagnetic surveys, magnetic surveys, gravity surveys, remote sensing surveys, marine vibrator surveys, and geological and geochemical sampling. These activities would provide information about the location and extent of oil and gas reserves, bottom conditions for oil and gas or renewable energy installations, and suitable locations of marine minerals off the Gulf coast of the U.S. Up-to-date and state-of-the-art G&G data and information are required for business decisions in furtherance of prospecting for OCS oil and gas in an orderly manner, assessing sites for renewable energy facilities, or developing marine mineral resources.

The alternatives that will be analyzed in the PEIS have not been finalized yet. The alternatives will include the Proposed Action (BOEM proposes to issue permits to conduct G&G activities under OCSLA and NMFS proposes to engage in a rulemaking under the MMPA and issue letters of authorization to allow the unintentional marine mammal takes during G&G activities in GOM waters), the No Action Alternative, and other alternatives that may include (but are not limited to) variations on the Proposed Action involving monitoring and mitigation measures and restrictions. The public is invited to suggest additional alternatives, including mitigation and monitoring measures, for our agencies' consideration and possible inclusion in the PEIS (40 CFR 1508.22(a)).

In conjunction with the preparation of the PEIS, the BOEM has asked NMFS to complete MMPA rulemaking for incidental take (by harassment) of marine mammal species in the GOM as a result of G&G survey from oil and gas activities. Under the MMPA (16 U.S.C. 1371; 50 CFR Subpart 216), the taking of marine mammals without a permit or exemption from NMFS is prohibited. The PEIS will be prepared cooperatively with NMFS to provide the necessary documentation under NEPA to support decisions regarding future OCSLA permit and MMPA authorization actions, in addition to complying with other statutes such as the ESA and the MSFCMA.

In the interim, BOEM continues to review proposed G&G seismic activities and non-commercial sand and gravel prospecting activities. BOEM issues permits for G&G seismic activities and provides authorization for non-commercial sand search (marine minerals program) only after these activities have been evaluated under NEPA and reviewed following interim project-specific consultation procedures under the ESA between BOEM and NMFS.

More information on G&G activities can be found on pages 13-15 of BOEM's Leasing Oil and Natural Gas Resources: Outer Continental Shelf (see http://www.boem.gov/search-results.aspx?q=GreenBook-LeasingDocument.pdf+ and BOEM's Geological and Geophysical Exploration for Mineral Resources on the Gulf of Mexico Outer Continental Shelf: Final Programmatic Environmental Assessment (see http://www.boem.gov/Oil-and-Gas-Energy-Program/GOMR/2004-054.aspx).

Cooperating Agency: BOEM invites other Federal agencies and State, Tribal, and local governments to consider becoming cooperating agencies in the preparation of the PEIS. We invite qualified government entities to inquire about cooperating agency status for the PEIS. Following the guidelines from the Council on Environmental Quality (CEQ), qualified agencies and governments are those with “jurisdiction by law” or “special expertise.” Potential cooperating agencies should consider their authority and capacity to assume the responsibilities of a cooperating agency, and note that an agency's role in the environmental analysis neither enlarges nor diminishes the final decision making authority of any other agency involved in the NEPA process. Upon request, BOEM will provide potential cooperating agencies with a written summary of ground rules for cooperating agencies, including time schedules and critical action dates, milestones, responsibilities, scope and detail of cooperating agencies' contributions, and the availability of pre-decisional information. BOEM anticipates this summary will form the basis for a Memorandum of Agreement (MOA). Agencies should also consider the “Factors for Determining Cooperating Agency Status” in Attachment 1 to CEQ's January 30, 2002, Memorandum for the Heads of Federal Agencies: Cooperating Agencies in Implementing the Procedural Requirements of the NEPA. A copy of this document is available at: http://ceq.hss.doe.gov/nepa/regs/cooperating/cooperatingagenciesmemorandum.html and/or http://ceq.hss.doe.gov/nepa/regs/cooperating/cooperatingagencymemofactors.html BOEM and NMFS, as co-agencies, will not provide financial assistance to any other cooperating agencies. Even if an organization is not an official cooperating agency, opportunities exist to provide information and comments during the normal public input phases of the NEPA/PEIS process. If further information about cooperating agencies is needed, please contact Mr. Gary Goeke at (504) 736-3233.

Authority: 42 U.S.C. 4321 et seq., 43 U.S.C. 1331-1356a, 16 U.S.C. 1361 et seq., 40 CFR 1501.7

Dated: May 6, 2013.
Tommy P. Beaudreau,
Director, Bureau of Ocean Energy Management.

[FR Doc. 2013-11226 Filed 5-9-13; 8:45 am]

BILLING CODE 4310-MR-P